DEPARTMENT OF HEALTH AND HUMAN SERVICES

Health Resources And Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Grantee Reporting Requirements for the Rural Health Network Development Grant Program (OMB No. 0915-0218)—Revision

This is a request for revision of the reporting requirements for the Rural Health Network Development Grant Program authorized by section 330A of the Public Health Service Act as amended by the Health Centers Consolidation Act of 1996 (Pub. L. 104-229).

The purpose of the program is to assist in the development of integrated networks of health care providers in rural communities. Grantee networks work to strengthen the health care delivery system in their service areas thereby improving access to, restraining the cost of, and improving the quality of essential health care services for rural residents. Grantees submit annual reports that provide information on progress toward goals and objectives of the network, specific network activities, and certain financial data related to the grant budget.

The information is used to evaluate progress on the grants, to identify grantees in need of technical assistance, and to identify best practices in the development of rural health networks. The information is also used to evaluate the impact of networks on access of care and quality of care. To minimize the burden on grantees, the reports will be submitted electronically. The estimated burden is as follows:

HRSA form | Number of responses | Responses per respondent | Total reponses | Hours per responses | Total burden hours
Tracking | 45 | 1 | 45 | 1.5 | 67.5

Written comments and recommendations concerning the proposed information collection should be sent within 60 days of this notice to: Susan G. Queen, Ph.D., HRSA Reports Clearance Officer, Room 11-05, Parklawn Building, 5600 Fishers Lane, Rockville, MD 20857.

Dated: January 18, 2002.
Jane M. Harrison,
Director, Division of Policy Review and Coordination.

[FR Doc. 02-1850 Filed 1-24-02; 8:45 am]

BILLING CODE 4165-15-P